DEPARTMENT OF EDUCATION

[CFDA: 84.133A-6, 84.133A-7, and 84.133A-8]

Funding Priorities: Disability and Rehabilitation Research Projects and Centers Program

AGENCY: Office of Special Education and Rehabilitative Services, Department of Education.

ACTION: Notice of proposed priorities.

SUMMARY: The Assistant Secretary for Special Education and Rehabilitative Services proposes three funding priorities for the Disability and Rehabilitation Research Projects and Centers Program administered by the National Institute on Disability and Rehabilitation Research (NIDRR). Specifically, this notice proposes a priority for the Americans with Disabilities Act (ADA) National Network Regional Centers (Proposed Priority 1), the ADA National Network Knowledge Translation Center (Proposed Priority 2), and the ADA National Network Research Collaborative (Proposed Priority 3). The Assistant Secretary may use one or more of these priorities for competitions in fiscal year (FY) 2011 and later years. We take this action to focus attention on areas of national need.

DATES: We must receive your comments on or before April 21, 2011.

ADDRESSES: Address all comments about this notice to Lynn Medley, U.S. Department of Education, 400 Maryland Avenue, SW., Room 5140, Potomac Center Plaza (PCP), Washington, DC 20202-2700.

If you prefer to send your comments by e-mail, use the following address: Lynn.Medley@ed.gov. You must include “Proposed Priorities for Americans with Disabilities Act (ADA) National Network Regional Centers, Knowledge Translation Center, and Collaborative” in the subject line of your electronic message.

FOR FURTHER INFORMATION CONTACT: Lynn Medley. Telephone: (202) 245-7338 or by e-mail: Lynn.Medley@ed.gov.

If you use a telecommunications device for the deaf (TDD), call the Federal Relay Service (FRS), toll free, at 1-800-877-8339.

SUPPLEMENTARY INFORMATION: This notice of proposed priorities is in concert with NIDRR's currently approved Long-Range Plan (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine the best strategies and programs to improve rehabilitation outcomes for underserved populations; (4) identify research gaps; (5) identify mechanisms of integrating research and practice; and (6) disseminate findings.

This notice proposes three priorities that NIDRR intends to use for DRRP competitions in FY 2011 and possibly later years. However, nothing precludes NIDRR from publishing additional priorities if needed. Furthermore, NIDRR is under no obligation to make an award for any of these priorities. The decision to make an award will be based on the quality of applications received and available funding.

Invitation to Comment: We invite you to submit comments regarding this notice. To ensure that your comments have maximum effect in developing the notice of final priorities, we urge you to identify clearly the specific priority that each comment addresses.

We invite you to assist us in complying with the specific requirements of Executive Order 12866 and its overall requirement of reducing regulatory burden that might result from these proposed priorities. Please let us know of any further ways we could reduce potential costs or increase potential benefits while preserving the effective and efficient administration of the program.

During and after the comment period, you may inspect all public comments about these proposed priorities in Room 5133, 550 12th Street, SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended (Rehabilitation Act).

Disability and Rehabilitation Research Projects

The purpose of NIDRR's Disability and Rehabilitation Research Projects (DRRPs) are to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: Research, training, demonstration, development, dissemination, utilization, and technical assistance. An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on DRRPs can be found at: www.ed.gov/rschstat/research/pubs/res-program.html#DRRP.

Program Authority: 29 U.S.C. 762(g) and 764(a).

Applicable Program Regulations: 34 CFR part 350.

Proposed Priorities:

This notice contains three proposed priorities. Background: The Americans with Disabilities Act of 1990, as amended (ADA), 42 U.S.C. 12101 et seq., prohibits discrimination against individuals with disabilities in employment, public accommodations, State and local government activities, and telecommunications.

Since 1991, NIDRR has supported grants to 10 regional Disability and Business Technical Assistance Centers (DBTACs), which provide ADA training, technical assistance, and ADA-related materials to individuals and entities with rights and responsibilities under the ADA.

In years 2006-2010, NIDRR made several key changes in the DBTAC program. Specifically, NIDRR added a research component to the scope of the DBTAC program, established a DBTAC Coordination, Outreach, and Research Center (DBTAC CORC) (See notice of final priorities published in the Federal Register on June 9, 2006 (71 FR 33562)), and expanded DBTAC data collection requirements in order to provide more thorough and descriptive reports on the volume and content of the services that the DBTACs provide.

NIDRR made these changes in order to (a) better align the DBTACs with NIDRR's research mission, and (b) enable the DBTACs to develop new knowledge about the ADA and DBTAC activities in order to enhance ongoing training, technical assistance, and dissemination activities. Over the past five years, the DBTACs have published numerous journal articles, held a series of research conferences, and conducted other knowledge translation activities to share the new knowledge about the ADA gained from their research. Examples of key research topics include access to postsecondary education among students with disabilities, access to healthcare services among people with disabilities, and reasonable accommodations in the workplace. NIDRR intends to continue these research and data collection activities in the coming grant cycle by funding the ADA National Network Regional Centers, the ADA National Network Knowledge Translation Center, and the ADA National Network Research Collaborative.

In addition to these NIDRR-initiated changes, there have also been key changes in legislation and regulations since the last competition for the DBTAC program. For example, in 2008, the ADA Amendments Act (Pub. L. 110-325) was signed into law. The ADA Amendments Act clarifies and expands the definition of disability through several new provisions. These include a provision that affirms that mitigating measures (e.g., medication, assistive technology, accommodations) have no bearing in determining whether an individual meets the definition of having a disability and another provision that clarifies the extent to which the ADA covers individuals with disabilities that are episodic or in remission. In 2010, the U.S. Department of Justice published new regulations implementing titles II and III of the ADA (28 CFR part 35 and 28 CFR part 36). In 2011, the U.S. Equal Employment Opportunity Commission plans to publish new regulations implementing title I of the ADA (29 CFR part 1630).

In addition, a number of ADA compliance issues have gained more attention in recent years, including access to information technologies (National Council on Disability, 2006) and to emergency management services (National Council on Disability, 2009, U.S. Department of Education, 2008, U.S. Department of Homeland Security, 2005). These legislative and regulatory changes and emerging issues highlight a continuing need for NIDRR to support activities to raise awareness of, and promote compliance with, the ADA. To address this need, NIDRR proposes three priorities under which it would fund an ADA National Network that would replace the DBTAC program.

Under Proposed Priority 1, we would establish 10 ADA National Network Regional Centers (ADA Regional Centers) that would constitute the core of the ADA National Network. These ADA Regional Centers would provide comprehensive training and technical assistance and would disseminate materials to individuals and entities with rights and responsibilities under the ADA.

Under Proposed Priority 2, we would fund the ADA National Network Knowledge Translation Center (ADA KT Center). The ADA KT Center would maintain the ADA National Network Web site; review and synthesize the existing ADA research literature; maintain a detailed database describing the training, technical assistance, and dissemination activities provided by the ADA National Network; and promote the use of ADA research to implement the ADA more effectively. This ADA KT Center would also provide logistical and financial support for annual meetings of the Project Directors of the 10 ADA Regional Centers and for a conference on ADA-related research.

Under Proposed Priority 3, we would fund two collaborative research grants that contribute to ADA knowledge of national significance. This priority would allow the ADA Regional Centers to conduct collaborative research using the regional network structure as a foundation for multi-site research to inform ADA implementation and to improve the performance of the ADA National Network.

References:

National Council on Disability. (2009, August 12). Effective emergency management: Making improvements for communities and people with disabilities. Retrieved December 7, 2010, from http://www.ncd.gov/newsroom/publications/2009/pdf/NCD_EmergencyManagement.pdf.

National Council on Disability. (2006, December 26). Over the horizon: Potential impact of emerging trends in information and communication technology on disability policy and practice. Retrieved December 7, 2010, from http://www.ncd.gov/newsroom/publications/2006/pdf/emerging_trends.pdf.

U.S. Department of Education. (2008, April). Emergency management research and people with disabilities: A research guide. Retrieved December 7, 2010, from http://www2.ed.gov/rschstat/research/pubs/index.html#emergencyguide.

U.S. Department of Homeland Security. (2005, July 21). Individuals with disabilities in emergency preparedness. Retrieved December 7, 2010, from http://www.dhs.gov/xlibrary/assets/crcl-icc-report-july05.pdf.

Proposed Priority 1—Americans with Disabilities Act (ADA) National Network Regional Centers.

The Assistant Secretary for Special Education and Rehabilitative Services proposes a priority for the funding of 10 Disability and Rehabilitation Research Projects (DRRPs) to serve as the ADA National Network Regional Centers (formerly known as Disability Business Technical Assistance Centers (DBTACs)), one within each of the 10 U.S. Department of Education regions that cover all of the United States. Together, the 10 ADA National Network Regional Centers (ADA Regional Centers), along with the ADA National Network Knowledge Translation Center (ADA KT Center, funded under a separate priority) and the ADA Research Collaboratives (funded under a separate priority) will comprise the ADA National Network. Each ADA Regional Center must be designed to contribute to the following outcomes:

(a) Improved understanding by ADA stakeholders of their rights and responsibilities under the ADA. Each ADA Regional Center must contribute to this outcome by implementing a sustained program of training, technical assistance, and information dissemination (collectively, ADA Network Services), aimed at ADA stakeholders, including local, regional, and national groups representing such stakeholders. NIDRR anticipates that ADA stakeholders will need information on both longstanding ADA requirements as well as recent legislative and regulatory changes affecting those requirements, such as the ADA Amendments Act, the revised title II and III regulations (28 CFR parts 35 and 36, respectively), the anticipated revisions to the title I regulations (29 CFR part 1630), and information on issues associated with ADA compliance in emerging areas such as access to information technologies and emergency management services. For purposes of this priority, the term “ADA stakeholders” refers to individuals and entities with rights and responsibilities under the ADA.

(b) Improved understanding of ADA stakeholders' need for and receipt of ADA Network Services over time, including services to address emerging issues related to compliance with ADA requirements. Each of the 10 ADA Regional Centers must contribute to this outcome by—

(1) Entering, directly into the database maintained by the ADA National Network Knowledge Translation Center (“ADA KT Center”, funded under a separate priority), the required data about each of the ADA Network Services that it provides. These data must include, but are not limited to, (1) the ADA title or titles, regulations, and specific topics that are addressed by the ADA Network Services provided, (2) the modality of service provision (e.g., in-person presentation, webinar), and (3) non-identifying information about the recipient or recipients of the ADA Network Services;

(2) Collaborating with the ADA KT Center to analyze data about ADA stakeholder requests for information and the services that the ADA Regional Center provides, and applying new knowledge from those analyses to further tailor and improve the provision of ADA Network Services; and

(3) Identifying and implementing other appropriate methods for assessing the needs of ADA stakeholders.

(c) Enhanced efficiency and effectiveness of ADA Network Services. Each of the ten ADA Regional Centers must contribute to this outcome by—

(1) Partnering with the ADA KT Center and other ADA Regional Centers to develop, provide, and distribute ADA training and technical assistance materials, and other informational products and services. These materials, products, and services include, but are not limited to, the ADA National Network Web site, as well as materials, products, and services that are relevant to ADA stakeholders in multiple regions.

(2) Attending and participating in the annual meetings of the ADA Regional Centers' Project Directors, to be held in Washington, DC.

Proposed Priority 2—Americans with Disabilities Act (ADA) National Network Knowledge Translation Center (ADA KT Center).

The Assistant Secretary for Special Education and Rehabilitative Services proposes a priority for the funding of a Disability and Rehabilitation Research Project (DRRP) to serve as an Americans with Disabilities Act (ADA) National Network Knowledge Translation Center (ADA KT Center). For purposes of this priority, the term “ADA stakeholders” refers to individuals and entities with rights and responsibilities under the ADA. Under this priority, the ADA KT Center must be designed to contribute to the following outcomes:

(a) Optimal efficiency and impact of the ADA National Network's training, technical assistance, and information dissemination activities (ADA Network Services). The ADA KT Center must contribute to this outcome by—

(1) Establishing and implementing an online system to enable the 10 ADA Regional Centers to share training and technical assistance documents and other materials;

(2) Facilitating the joint development of ADA products and materials by the 10 ADA Regional Centers in content areas in which it is possible to maximize resources and avoid duplication of efforts;

(3) Serving as the central repository for ADA National Network information and products, and maintaining ADA Network document portals and Web sites currently funded by NIDRR; and

(4) Organizing and providing logistical and financial support for annual meetings of the ADA Regional Centers' Project Directors in Washington, DC. These meetings will facilitate collaboration between the 10 ADA Regional Centers, and will allow the Project Directors of the ADA Regional Centers to meet and share information directly with their Federal partners in the U.S. Department of Justice, Equal Employment Opportunity Commission, and other relevant agencies.

(b) Increased use of available ADA-related research findings to inform behavior, practices, or policies that improve equal access in society for individuals with disabilities. The ADA KT Center must contribute to this outcome by—

(1) Systematically reviewing existing ADA-related research. The ADA KT Center must identify and conduct systematic reviews of individual ADA research studies to assess the quality of those studies and to synthesize the findings from those studies. In so doing, the ADA KT Center must select appropriate review methods, taking into account the type of research and stage of knowledge development in each area of ADA research. These areas may include, but are not limited to research on specific titles of the ADA, research on ADA issues in specific industries, and research on ADA issues that are relevant to individuals with specific types of disabilities; and

(2) Identifying, for future research, topics that would provide new knowledge or tools to help individuals with rights and responsibilities under the ADA (ADA stakeholders) implement and comply with the ADA. The ADA KT Center must identify future research topics based on the information gathered through the systematic reviews conducted under paragraph (b)(1) of this priority, in combination with information about gaps in ADA stakeholder knowledge related to ADA implementation. The ADA KT Center must collaborate with ADA stakeholders to determine these knowledge gaps.

(c) Increased awareness and utilization of ADA-related research findings by appropriate ADA stakeholder groups. The ADA KT Center must contribute to this outcome by—

(1) Combining or adapting knowledge translation approaches from the existing literature to disseminate and promote the use of ADA-related research generated by the ADA National Network Research Collaborative (funded under a separate priority) and other NIDRR grantees as appropriate; and

(2) Organizing and providing logistical and financial support for a conference on ADA-related research. This conference must highlight research findings produced by the ADA National Network Research Collaborative and other ADA researchers. This conference must take place in year five of the ADA National Network grant cycle.

(d) Improved understanding of ADA stakeholders' need for and receipt of ADA Network Services over time, including services to address emerging issues related to compliance with ADA requirements. The ADA KT Center must contribute to this outcome by—

(1) Continuing the operation and maintenance of the existing database for data submitted by each of the ADA Regional Centers. This database was previously known as the Outcome Measurement System, and is presently operated by the DBTAC Coordination, Outreach, and Research Center (CORC). This database was designed to contain data on each DBTAC's core activities, including training, technical assistance, public awareness events, and dissemination of materials. In operating and maintaining this database, the ADA KT Center must ensure confidentiality of personally identifiable information, and provide quality control and data-retrieval capabilities, using cost-effective technologies and a user-friendly interface;

(2) Providing training and technical assistance to ADA Regional Centers on analyzing data and using the database;

(3) Monitoring the quality of data submitted by the ADA Regional Centers; and

(4) Collaborating with NIDRR and the ADA Regional Centers to ensure that the database is accurate, comprehensive, easy to use, and up-to-date.

Proposed Priority 3—ADA National Network Research Collaborative.

The Assistant Secretary for Special Education and Rehabilitative Services proposes a priority for the funding of a Disability and Rehabilitation Research Project (DRRP) to serve as a National ADA Network Research Collaborative (Collaborative). The Collaborative must be designed to contribute to knowledge of national significance related to ADA implementation and compliance. To be eligible under this priority, an applicant must have received a grant under the ADA National Network Regional Center priority (Priority 1). The Collaborative must conduct research using the regional structure of the ADA National Network as a foundation for multi-site research that would inform ADA implementation efforts. The Collaborative must consist of the applicant and an additional three or more of the NIDRR-funded ADA Regional Centers (for a minimum of four ADA Regional Centers). In addition, the Collaborative may include researchers who are not a part of the ADA National Network. For purposes of this priority, the term “ADA stakeholders” refers to individuals and entities with rights and responsibilities under the ADA. The Collaborative must be designed to contribute to the following outcomes:

(a) Improved knowledge related to ADA implementation. The Collaborative must contribute to this outcome by—

(1) Conducting research on one or more areas in the ADA. These areas may include, but are not limited to research on specific titles of the ADA, research on ADA issues in specific industries, or research on ADA issues that are relevant to individuals with specific types of disabling conditions;

(2) Addressing research questions or hypotheses of national significance that are directly relevant to individuals and entities with rights and responsibilities under the ADA (ADA stakeholders); and

(3) Using appropriate and clearly-identified research designs to generate reliable and valid findings.

(b) Improved ADA stakeholder awareness and utilization of research findings produced by the ADA National Network. The Collaborative must contribute to this outcome by—

(1) Preparing research products (e.g., articles and presentations) that describe the findings of the Collaborative's research. The Collaborative must also share these research products and research findings with the ADA Regional Centers and the ADA KT Center, which the Department intends to fund under separate priorities, for further dissemination to ADA stakeholders; and

(2) Participating in the ADA National Network research conference.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priorities: We will announce the final priorities in a notice in the Federal Register. We will determine the final priorities after considering responses to this notice and other information available to the Department. This notice does not preclude us from proposing additional priorities or requirements, definitions, or selection criteria, subject to meeting applicable rulemaking requirements.

Note: This notice does not solicit applications. In any year in which we choose to use these priorities, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priorities justify the costs.

Discussion of Costs and Benefits:

The benefits of the Disability and Rehabilitation Research Projects and Centers Programs have been well established over the years in that similar projects have been completed successfully. These proposed priorities will generate new knowledge through research and development. Another benefit of these proposed priorities is that the establishment of new DRRPs will improve the lives of individuals with disabilities. The new DRRPs will generate, disseminate, and promote the use of new information that will improve the options for individuals with disabilities to perform regular activities in the community.

Intergovernmental Review: This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site. Note: The official version of this document is the document published in the Federal Register. Free Internet access to the official edition of the Federal Register and the Code of Federal Regulations is available on GPO Access at: http://www.gpoaccess.gov/nara/index.html.

Catalog of Federal Domestic Assistance (CFDA) Number: 84.133A-6, 84.133A-7, and 84.133A-8.

Dated: March 17, 2011.
Alexa Posny,
Assistant Secretary for Special Education and Rehabilitative Services.

[FR Doc. 2011-6713 Filed 3-21-11; 8:45 am]

BILLING CODE 4000-01-P